DEPARTMENT OF ENERGY

Federal Energy Regulatory Commission

[Docket No. RP02-157-000]

Transwestern Pipeline Company; Notice of Proposed Changes in FERC Gas Tariff

February 8, 2002.

Take notice that on February 1, 2002, Transwestern Pipeline Company (Transwestern), tendered for filing as part of its FERC Gas Tariff, Second Revised Volume No. 1, the following tariff sheets, proposed to be effective March 4, 2002:

7th Revised Sheet No. 14

4th Revised Sheet No. 15

4th Revised Sheet No. 16

8th Revised Sheet No. 24

10th Revised Sheet No. 25

7th Revised Sheet No. 25A

11th Revised Sheet No. 33

6th Revised Sheet No. 34

6th Revised Sheet No. 35

1st Revised Sheet No. 37C

19th Revised Sheet No. 48

7th Revised Sheet No. 51B

8th Revised Sheet No. 72

3rd Revised Sheet No. 72A

4th Revised Sheet No. 72B

4th Revised Sheet No. 95B.01

6th Revised Sheet No. 95D

Transwestern states that the above tariff sheets are being filed to provide for electronic contracting for service under Transwestern's Rate Schedules FTS-1, FTS-2, LFT, EFBH, FTS-3, ITS-1, and PNR, and Operator Balancing Agreements to be implemented on the Transwestern system during March, 2002. Transwestern states that it currently has electronic contracting for capacity release available on its system. Concurrent with these tariff changes Transwestern is implementing a new contracting system that will, among other things, enable Transwestern and its shippers to comply with GISB timelines and the Commission's policies on contracting. Transwestern anticipates that this electronic contracting capability will replace current facsimile and mail methods for exchange of contractual documents.

Transwestern states that it has begun working with its shippers to transition to the new system and will continue to accept written requests, contracts and amendments during the transition period. The proposed tariff modifications permit shippers to request service and execute service agreements electronically on Transwestern's Web site located at www.tw.enron.com. The instant filing also includes minor corrections, as well as changes to update or clarify certain tariff provisions in conformance with the electronic processes provided for herein.

Transwestern further states that copies of the filing have been mailed to each of its customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3647 Filed 2-13-02; 8:45 am]

BILLING CODE 6717-01-P